DEPARTMENT OF ENERGY

Agency Information Collection Extension

AGENCY: U.S. Department of Energy.

ACTION: Notice and request for comments.

SUMMARY: The Department of Energy (DOE), pursuant to the Paperwork Reduction Act of 1995, intends to extend for 3 years, an information collection request (ICR) with the Office of Management and Budget (OMB) concerning the Occupational Radiation Protection program, OMB Control Number 1910-5105.

The Office of Worker Safety and Health Policy ensures that adequate policies are in place for the protection of workers at DOE sites and operations. The Office of Worker Safety and Health Policy uses the information collected from the contractors to evaluate the adequacy of DOE policies for the protection of workers from exposure to ionizing radiation.

Comments are invited on: (a) Whether the extended collection of information is necessary for the proper performance of the functions of the Agency, including whether the information shall have practical utility; (b) the accuracy of the Agency's estimate of the burden of the proposed collection of information, including the validity of the methodology and assumptions used; (c) ways to enhance the quality, utility, and clarity of the information to be collected; and (d) ways to minimize the burden of the collection of information on respondents, including through the use of automated collection techniques or other forms of information technology.

Comments submitted in response to this Notice will be summarized and/or included in the request for OMB approval of this information collection; they also will become a matter of public record.

DATES: Comments regarding this proposed information collection must be received on or before November 13, 2007. If you anticipate difficulty in submitting comments within that period, contact the person listed below as soon as possible.

ADDRESSES: Written comments may be sent to: Dr. Judith D. Foulke, Office of Worker Safety and Health Policy (HS-11), U.S. Department of Energy, 1000 Independence Avenue, SW., Washington, DC 20585, or by fax at (301) 903-7773 or by e-mail at judy.foulke@hq.doe.gov.

FOR FURTHER INFORMATION CONTACT: Requests for additional information or copies of the information collection instrument and instructions should be directed to the person listed above in ADDRESSES.

SUPPLEMENTARY INFORMATION: This ICR contains: (1) OMB No: 1910-5105; (2) Package Title: Occupational Radiation Protection Program; (3) Type of Review: Renewal; (4) Purpose: The recordkeeping and reporting requirements that comprise this information collection will permit DOE and its contractors to provide management control and oversight over health and safety programs concerning worker exposure to ionizing radiation; (5) Respondents: 50; (6) Estimated Number of Burden Hours: 50,000. Statutory Authority: Title 10, Code of Federal Regulations, part 835.

Pursuant to the Paperwork Reduction Act of 1995, Agency Information Collection Extension.

Issued in Washington, DC, on August 24, 2007.
Lesley A. Gasperow,
Director, Office of Resource Management, Office of Health, Safety and Security.

[FR Doc. E7-17843 Filed 9-10-07; 8:45 am]

BILLING CODE 6450-01-P